ENVIRONMENTAL PROTECTION AGENCY

[FRL-9221-01-R6]

Clean Air Act Operating Permit Program; Petitions for Objection to State Operating Permit for Oak Grove Management Company, Oak Grove Steam Electric Station, Robertson County, Texas

AGENCY: Environmental Protection Agency (EPA).

ACTION: Notice of final order on petition for objection to Clean Air Act Title V operating permit.

SUMMARY: The Environmental Protection Agency (EPA) Administrator signed an Order dated October 15, 2021, granting a Petition dated July 25, 2017 from the Environmental Integrity Project and Sierra Club. The Petition requested that the EPA object to a Clean Air Act (CAA) title V operating permit issued by the Texas Commission on Environmental Quality (TCEQ) to Oak Grove Management Company (Oak Grove) for its Oak Grove Steam Electric Station located in Robertson County, Texas.

ADDRESSES: The EPA requests that you contact the individual listed in the FOR FURTHER INFORMATION CONTACT section to view copies of the final Order, the Petition, and other supporting information. Out of an abundance of caution for members of the public and our staff, the EPA Region 6 office is currently closed to the public to reduce the risk of transmitting COVID-19. Please call or email the contact listed below if you need alternative access to the final Order and Petition, which are available electronically at: https://www.epa.gov/title-v-operating-permits/title-v-petition-database.

FOR FURTHER INFORMATION CONTACT: Jonathan Ehrhart, EPA Region 6 Office, Air Permits Section, (214) 665-2295, ehrhart.jonathan@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from the Environmental Integrity Project and Sierra Club dated July 25, 2017, requesting that the EPA object to the issuance of operating permit no. O2942, issued by TCEQ to the Oak Grove Steam Electric Station in Robertson County, Texas. The Petition claims the proposed permit omitted enforceable requirements in Oak Grove's written Maintenance, Startup, and Shutdown Plan, omitted limits and representations in Oak Grove's certified Permit by Rule registrations, and failed to assure compliance with emission limits and operating requirements established by Oak Grove's New Source Review permits, including Permits by Rule.

On October 15, 2021, the EPA Administrator issued an Order granting the Petition. The Order explains the basis for EPA's decision.

Dated: November 2, 2021.
Kim Ngo,
Acting Director, Air and Radiation Division, Region 6.

[FR Doc. 2021-24417 Filed 11-8-21; 8:45 am]

BILLING CODE 6560-50-P